DEPARTMENT OF STATE

22 CFR Part 62

RIN 1400-AC01

[Public Notice 5117]

Participation in the Exchange Visitor Program as Professor and Research Scholar; Correction

AGENCY: State Department.

ACTION: Correction to final rule.

SUMMARY: The Department of State published a document in the Federal Register of May 19, 2005, concerning a final rule on regulations for professors and research scholars in the Exchange Visitor Program. The document contained incorrect information regarding the 12-month bar, and this document corrects that error.

DATES: This correction becomes effective on the later of June 20, 2005, or the date upon which the Department of Homeland Security publishes a notice in the Federal Register announcing that it has completed the technical computer updates to its electronic Student and Exchange Visitor Information System (SEVIS) that are necessary to implement this rule.

FOR FURTHER INFORMATION CONTACT: Stanley S. Colvin, Office of Exchange Coordination, Bureau of Educational and Cultural Affairs, Department of State 202-203-5029; Fax 202-203-5087.

PART 62—[AMENDED]

1. The authority citation for part 62 continues to read as follows:

Authority: 8 U.S.C. 1101(a)(15)(J), 1182, 1184, 1258; 22 U.S.C. 1431-1442, 2451-2460; Foreign Affairs Reform and Restructuring Act of 1998, Pub. L. 105-277, 112 Stat. 2681 et seq.; Reorganization Plan No. 2 of 1977, 3 CFR, 1977 Comp., p. 200; E.O. 12048 of March 27, 1978, 3 CFR, 1978 Comp., p. 168.

2. Section 62.20 (d)(2) introductory text is revised to read as follows:

§ 62.20 Professors and research scholars.

* * * * *

(d)* * * (2) The participant has not been physically present in the United States as a nonimmigrant pursuant to the provisions of 8 U.S.C. 1101(a)(15)(J) for all or part of the twelve-month period immediately proceeding the date of program commencement set forth on his or her Form DS-2019, unless:

* * * * *

Dated: June 17, 2005.
Stanley S. Colvin,
Director, Acting, Office of Exchange Coordination, Department of State.

[FR Doc. 05-12456 Filed 6-22-05; 8:45 am]

BILLING CODE 4710-05-P